DEPARTMENT OF ENERGY

Federal Energy Regulatory Commission

Notice of Application Ready for Environmental Analysis and Soliciting Comments, Recommendations, Terms and Conditions, and Prescriptions

July 31, 2002.

Take notice that the following hydroelectric application has been filed with the Commission and is available for public inspection.

a. Type of Application: New Major License.

b. Project No.: 184-065.

c. Date filed: February 22, 2000.

d. Applicant: El Dorado Irrigation District.

e. Name of Project: El Dorado Project.

f. Location: Located on the South Fork of the American River and its tributaries in the counties of El Dorado, Alpine, and Amador, California, partially within the boundaries of the Eldorado National Forest. The project also diverts about 1,900 acre-feet of water from lower Echo Lake in the upper Truckee River Basin.

g. Filed Pursuant to: Federal Power Act 16 U.S.C. 791 (a)—825(r).

h. Applicant Contact: William Wilkins, General Manager, El Dorado Irrigation District, 2890 Mosquito Road, Placerville, CA 95667-4700. Telephone (530) 622-4513.

i. FERC Contact: Any questions concerning this notice should be addressed to Susan O'Brien, e-mail address susan.obrien@ferc.gov, or telephone (202) 502-8849.

j. Deadline for filing comments, recommendations, terms and conditions, and prescriptions: October 31, 2002; reply comments due November 30, 2002.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. See 18 CFR 385.2001(a)(1)(iii) and the instructions on the Commission's web site (http://www.ferc.gov) under the “e-Filing” link. The Commission strongly encourages electronic filings.

k. This application has been accepted, and is ready for environmental analysis at this time.

l. The project consists of the following existing facilities: (1) A 113-foot-long, 20-foot-high rubble and masonry main dam with a crest elevation of 8,210 feet mean sea level (msl) and 11 auxiliary dams, impounding Lake Aloha, a reservoir that covers 590 acres (at full pond) with a usable storage of 5,179 acre-feet; (2) a 320-foot-long, 14-foot-high roller-compacted concrete dam with a crest elevation of 7,413 feet msl, impounding lower Echo Lake, a reservoir that covers 335 acres (at full pond) with a usable storage of 1,900 acre-feet; (3) a 6,125-foot-long conduit from lower Echo Lake to the South Fork of the American River; (4) a 1,200-foot-long, 84.5-feet-high gunite-core earthfill main dam with a crest elevation of 7,959.5 feet msl and one auxiliary dam, impounding Caples Lake, a reservoir that covers 624 acres (at full pond) with a usable storage of 22,490 acre-feet; (5) a 280-foot-long, 30-foot-high rock and earthfill dam with a crest elevation of 7,261 feet msl, impounding Silver Lake, a reservoir that covers 502 acres (at full pond) with usable storage of 13,280 acre-feet; (6) a 160-foot-long, 15-foot-high rockfill reinforced binwall diversion dam with a crest elevation of 3,910.5 feet msl, impounding 200 acre-feet of the South Fork of the American River; (7) a 22.3-mile-long conveyance from the diversion dam to the forebay; (8) a 70-foot-long, 9.5-foot-high concrete diversion dam with a crest elevation of 4,007 feet msl on Alder Creek; (9) six small creeks that divert into the conveyance—Mill Creek, Bull Creek, Carpenter Creek, Ogilby Creek, Esmeralda Creek and an unnamed creek; (10) a 836-foot-long, 91-foot-high earthfill forebay dam with a crest elevation of 3,804 feet msl, a reservoir that covers 23 acres (at full pond) with a usable storage of 356-acre-feet; (11) a 2.8-mile combination pipeline and penstock conveyance, with surge tank, from the forebay to the powerhouse; (12) a 110-foot-long by 40-foot-wide steel frame powerhouse with reinforced concrete walls and an installed capacity of 21,000 kilowatts, producing about 106 gigawatt-hours annually when operational; and (13) other appurtenances. No transmission lines are included with the project.

m. A copy of the application is on file with the Commission and is available for public inspection. This filing may also be viewed on the web at http://www.ferc.gov using the “RIMS” link—select “Docket #” and follow the instructions (call 202-208-2222 for assistance). A copy is also available for inspection and reproduction at the address in item h above.

n. All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

o. Procedural schedule: The application will be processed according to the following Hydro Licensing Schedule. Revisions to the schedule will be made as appropriate.

Notice of application ready for environmental analysis: July 30, 2002.

Comment due date: October 31, 2002.

Reply comment due date: November 30, 2002.

Notice of the availability of the draft EIS: January 31, 2003.

Comment due date: March 31, 2003.

Notice of the availability of the final EIS: May 15, 2003.

Linwood A. Watson, Jr.,
Deputy Secretary.

[FR Doc. 02-19772 Filed 8-5-02; 8:45 am]

BILLING CODE 6717-01-P